SMALL BUSINESS ADMINISTRATION

Disaster Declaration #15249 and #15250; WISCONSIN Disaster Number WI-00060 Administrative Declaration of a Disaster for the State of WISCONSIN

AGENCY: U.S. Small Business Administration.

ACTION: Notice.

SUMMARY: This is a notice of an Administrative declaration of a disaster for the State of WISCONSIN dated August 18, 2017.

DATES: Issued on 8/18/2017.

Physical Loan Application Deadline Date: 10/17/2017

Economic Injury (EIDL) Loan Application Deadline Date: 05/16/2018.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

Incident: Flash Floods and Flooding.

Incident Period: 07/11/2017

The following areas have been determined to be adversely affected by the disaster:

Primary Counties: Kenosha, Racine, Walworth

Contiguous Counties:

WISCONSIN Jefferson, Milwaukee, Rock, Waukesha

ILLINOIS Boone, Lake, Mchenry

The Interest Rates are:

| Percent
For Physical Damage:
Homeowners With Credit Available Elsewhere | 3.875
Homeowners Without Credit Available Elsewhere | 1.938
Businesses With Credit Available Elsewhere | 6.430
Businesses Without Credit Available Elsewhere | 3.215
Non-Profit Organizations With Credit Available Elsewhere | 2.500
Non-Profit Organizations Without Credit Available Elsewhere | 2.500
For Economic Injury:
Businesses & Small Agricultural Cooperatives Without Credit Available Elsewhere | 3.215
Non-Profit Organizations Without Credit Available Elsewhere | 2.500

The number assigned to this disaster for physical damage is 15249 6 and for economic injury is 15250 0.

The States which received an EIDL Declaration # are Wisconsin Illinois.

(Catalog of Federal Domestic Assistance Number 59008)

Dated: August 18, 2017.
Linda E. McMahon,
Administrator.

[FR Doc. 2017-18384 Filed 8-29-17; 8:45 am]

BILLING CODE 8025-01-P